NATIONAL SCIENCE FOUNDATION

Committee Management Renewal

The National Science Foundation (NSF) management officials having responsibility for the Business and Operations Advisory Committee (#9556) have determined that renewing this committee for another two years is necessary and in the public interest in connection with the performance of duties imposed upon the Director, National Science Foundation (NSF), by 42 U.S.C. 1861 et seq. This determination follows consultation with the Committee Management Secretariat, General Services Administration.

Effective date for renewal is December 10, 2004. For more information, please contact Susanne Bolton, NSF, at (703) 292-7488.

Dated: December 3, 2004.
Susanne Bolton,
Committee Management Officer.

[FR Doc. 04-26922 Filed 12-7-04; 8:45 am]

BILLING CODE 7555-01-M